COMMODITY FUTURES TRADING COMMISSION

Establishment of Risk Management Advisory Committee

The Commodity Futures Trading Commission has determined to establish a new advisory committee, the Risk Management Advisory Committee. The purpose of the committee is to conduct public meetings and to make reports and recommendations to the Commission on risk management issues involving or relevant to participants in the markets regulated by the Commission. The reports and recommendations of the Risk Management Advisory Committee will be used by the Commission in evaluating regulatory and legislative issues falling within the Commission's statutory responsibilities. The committee also will serve as a vehicle for informed discussion of emerging issues relating to risk management and for communication regarding such issues among the Commission, market participants, regulators, and other relevant persons.

The Risk Management Advisory Committee will have no operational responsibilities. The Commission will seek to achieve a balanced membership by appointing representatives of a cross section of the groups and interests involved in or affected by the Commission's actions relating to risk management.

The Commission has determined that establishment of the Risk Management Advisory Committee is in the public interest and is necessary to enable the Commission to carry out its responsibilities in the most effective and responsive manner. Risk management is both a central purpose of the markets regulated by the Commission and a necessary component of their effective functioning. Recent economic developments have demonstrated the critical importance of risk management and the need for clearinghouses, firms and other market participants to thoroughly and systematically assess their risk management practices. Recent developments have similarly reemphasized the need for the Commission to effectively and efficiently assess industry risk controls, determine their ongoing effectiveness, and tailor oversight of regulated entities based upon accurate risk assessments. In these circumstances, an advisory committee focused on risk management will significantly advance the Commission's ability to carry out its mission.

The charter of the Risk Management Advisory Committee will become effective upon its filing pursuant to 5 U.S.C. App. 2 section 9(c). The Commission expects to file the charter promptly upon completion of the 15 day notice period specified by 41 CFR 102-3.65(b).

Interested persons may obtain information by writing to the Commodity Futures Trading Commission, Three Lafayette Centre, 1155 21st Street, NW., Washington, DC 20581.

Issued in Washington, DC on April 2, 2009, by the Commission.
David Stawick,
Secretary of the Commission.

[FR Doc. E9-7939 Filed 4-7-09; 8:45 am]

BILLING CODE 6351-01-P